DEPARTMENT OF JUSTICE

Notice of Lodging of Two Amendments to Consent Decree Under the Comprehensive Environmental Response, Compensation, and Liability Act of 1980 (“CERCLA”)

Consistent with Section 122(d) of the Comprehensive Environmental Response, Compensation, and Liability Act of 1980, as amended (“CERCLA”), 42 U.S.C. 9622(d), and 28 CFR 50.7, notice is hereby given that on May 20, 2008, the United States lodged two amendments to the Consent Decree approved by the Court on February 23, 2001 in United States of America v. Abex Aerospace Division, et al, Civil No. 00-cv-012471 TJH(JWJx) (USDC C.D. Cal.). The original Consent Decree resolved the liability of certain defendants for the “Phase 1a Area” of the Site under Sections 106 and 107 of the Comprehensive Environmental Response, Compensation, and Liability Act of 1980 (“CERCLA”), 42 U.S.C. 9606 and 9607, as amended, and Section 7003 of the Resource Conservation and Recovery Act, 42 U.S.C. 6973, as alleged in the Complaint filed in this matter.

The First Amendment primarily amends the Statement of Work under the original Consent Decree to add certain response activities necessary to address indoor air contamination observed at an indoor roller skating rink located adjacent to the Omega Chemical Corporation Superfund Site, listed on the National Priorities List on January 19, 1999, 64 FR 2950 (“Site”). The Second Amendment adds additional Settling Work Defendants, and Settling Cash Defendants to those covered by the original Consent Decree, as amended. The Second Amendment also incorporates additional volume and related payments of certain original Settling Cash Defendants, and corrects certain omissions and typographical errors in the caption. The Department of Justice will receive for a period of thirty (30) days from the date of this publication comments relating to the Consent Decree Amendments. Comments should be addressed to the Assistant Attorney General, Environment and Natural Resources Division, and either e-mailed to pubcomment-ees.enrd@usdoj.gov or mailed to P.O. Box 7611, U.S. Department of Justice, Washington, DC 20044-06529.

The Consent Decree Amendments may be examined at U.S. EPA Region 9, 75 Hawthorne Street, San Francisco, CA 94105 (contact Stephen Berninger, Esq. (415) 972-3909). During the public comment period, the Consent Decree Amendments may also be examined on the following Department of Justice Web site, http://www.usdoj.gov/enrd/Consent_Decrees.html. A copy of the Consent Decree may also be obtained by mail from the Consent Decree Library, U.S. Department of Justice, P.O. Box 7611, Washington, DC 20044-7611 or by faxing or e-mailing a request to Tonia Fleetwood (tonia.fleetwood@usdoj.gov), fax no. (202) 514-0097, phone confirmation number (202) 514-1547. In requesting a copy from the Consent Decree Library, please refer to United States of America v. Abex Aerospace Division, et al, Civil No. 00-cv-012471 TJH(JWJx) (USDC C.D. Cal.) (DOJ Ref. No. 90-11-3-06529), and enclose a check in the amount of $57.25 (25 cents per page reproduction cost) payable to the U.S. Treasury or, if by e-mail or fax, forward a check in that amount to the Consent Decree Library at the stated address.

Henry S. Friedman,
Assistant Section Chief, Environmental Enforcement Section, Environment and Natural Resources Division.

[FR Doc. E8-11846 Filed 5-27-08; 8:45 am]

BILLING CODE 4410-15-P